DEPARTMENT OF HEALTH AND HUMAN SERVICES

National Institutes of Health

Prospective Grant of Co-exclusive License: “Ultra Thin Walled Wire Reinforced Endotracheal Tubing”

AGENCY: National Institutes of Health, Public Health Service, DHHS.

ACTION: Notice.

SUMMARY: This is notice, in accordance with 35 U.S.C. 209(c)(1) and 37 CFR 404.7(a)(1)(i), that the National Institutes of Health, Department of Health and Human Services, is contemplating the grant of a co-exclusive license to practice the inventions embodied in U.S. Patent Application S/N 08/645,887 entitled, “Ultra Thin Walled Wire Reinforced Endotracheal Tubing” filed on May 15, 1996 and now U.S. Patent 5,722,395 which issued on March 3, 1998 to Mallinckrodt, Inc. of St. Louis, MO. The patent rights in these inventions have been assigned to the United States of America.

The prospective co-exclusive license territory will be for the United States.

DATES: Only written comments and/or application for a license which are received by the NIH Office of Technology Transfer on or before August 7, 2000 will be considered.

ADDRESSES: Requests for copies of the patent, inquiries, comments and other materials relating to the contemplated exclusive license should be directed to: Girish C. Barua, Ph.D., Office of Technology Transfer, National Institutes of Health, 6011 Executive Boulevard, Suite 325, Rockville, MD. 20852-3804. Telephone: 301/496-7056, ext. 263; Facsimile: 301/402-0220; E-mail: gb18t@nih.gov.

SUPPLEMENTARY INFORMATION: U.S. Patent 5,722,395 claims an ultra thin walled wire reinforced endotracheal tubing which includes a thin walled tubing comprising a polymeric material having a spring material incorporated therewith. Utilization of the spring wire material in combination with polymeric material results in a reduced wall thickness which results in a significant decrease in resistance to air flow through the endotracheal tubing and therefore should permit a patient to breathe in more relaxed fashion so as not to become exhausted. The endotracheal tubing of the present invention is made by depositing a dissolvable polymeric material onto a rotating mandrel in successive layers. A spring material is also applied around the mandrel to produce the ultra thin walled wire reinforced endotracheal tubing.

The prospective co-exclusive license: will be royalty-bearing; will comply with the terms and conditions of 35 U.S.C. 209 and 37 CFR 404.7; and it will be structured in such a way not to preclude the U.S. Public Health Service from licensing the patent rights of U.S. Patents 5,305,740, 5,429,127, 5,537,729, 5,711,296 and 5,785,998 and allowing appropriate licensees the right to practice these patent rights worldwide.

The prospective co-exclusive license may be granted unless within sixty (60) days from the date of this published notice, the NIH receives written evidence and argument that establish that the grant of the license would not be consistent with the requirements of 35 U.S.C. 209 and 37 CFR 404.7.

Properly filed competing applications for a license filed in response to this notice will be treated as objections to the contemplated license. Comments and objections submitted to this notice will not be made available for public inspection and, to the extent permitted by law, will not be released under the Freedom of Information Act, 5 U.S.C. 552.

Dated: May 30, 2000.
Jack Spiegel,
Director, Division of Technology Development and Transfer, Office of Technology Transfer.

[FR Doc. 00-14341 Filed 6-6-00; 8:45 am]

BILLING CODE 4140-01-M